COMMODITY FUTURES TRADING COMMISSION

17 CFR Parts 1, 39, and 140

RIN 3038-AE66

Derivatives Clearing Organization General Provisions and Core Principles

AGENCY: Commodity Futures Trading Commission.

ACTION: Extension of comment period.

SUMMARY: On May 16, 2019, the Commodity Futures Trading Commission (Commission) published in the Federal Register a notice of proposed rulemaking (NPRM) titled Derivatives Clearing Organization General Provisions and Core Principles. The comment period for the NPRM closes on July 15, 2019. The Commission is extending the comment period for this NPRM by an additional 60 days.

DATES: The comment period for the NPRM titled Derivatives Clearing Organization General Provisions and Core Principles, published May 16, 2019 at 84 FR 22226, is extended through September 13, 2019.

ADDRESSES: You may submit comments, identified by “Derivatives Clearing Organization General Provisions and Core Principles” and RIN number 3038-AE66, by any of the following methods:

• CFTC Comments Portal: https://comments.cftc.gov. Select the “Submit Comments” link for this rulemaking and follow the instructions on the Public Comment Form.

• Mail: Send to Christopher Kirkpatrick, Secretary of the Commission, Commodity Futures Trading Commission, Three Lafayette Centre, 1155 21st Street NW, Washington, DC 20581.

• Hand Delivery/Courier: Follow the same instructions as for Mail, above.

Please submit your comments using only one of these methods. To avoid possible delays with mail or in-person deliveries, submissions through the CFTC Comments Portal are encouraged.

All comments must be submitted in English, or if not, accompanied by an English translation. Comments will be posted as received to https://comments.cftc.gov. You should submit only information that you wish to make available publicly. If you wish the Commission to consider information that you believe is exempt from disclosure under the Freedom of Information Act (FOIA), a petition for confidential treatment of the exempt information may be submitted according to the procedures established in § 145.9 of the Commission's regulations.¹

¹ 17 CFR 145.9.

The Commission reserves the right, but shall have no obligation, to review, pre-screen, filter, redact, refuse or remove any or all of your submission from https://comments.cftc.gov that it may deem to be inappropriate for publication, such as obscene language. All submissions that have been redacted or removed that contain comments on the merits of the rulemaking will be retained in the public comment file and will be considered as required under the Administrative Procedure Act and other applicable laws, and may be accessible under the FOIA.

FOR FURTHER INFORMATION CONTACT: Eileen A. Donovan, Deputy Director, 202-418-5096, edonovan@cftc.gov; Parisa Abadi, Associate Director, 202-418-6620, pabadi@cftc.gov; Eileen R. Chotiner, Senior Compliance Analyst, 202-418-5467, echotiner@cftc.gov; Abigail S. Knauff, Special Counsel, 202-418-5123, aknauff@cftc.gov; Division of Clearing and Risk, Commodity Futures Trading Commission, Three Lafayette Centre, 1155 21st Street NW, Washington, DC 20581.

SUPPLEMENTARY INFORMATION: On May 16, 2019, the Commission published in the Federal Register an NPRM proposing amendments to certain regulations applicable to registered derivatives clearing organizations.² The proposed amendments would, among other things, address certain risk management and reporting obligations, clarify the meaning of certain provisions, simplify processes for registration and reporting, and codify existing staff relief and guidance. In addition, the Commission proposed technical amendments to certain provisions, including certain delegation provisions, in other parts of its regulations. The comment period for the NPRM closes on July 15, 2019. As requested by commenters, the Commission is extending the comment period for this NPRM by an additional 60 days.³ This extension of the comment period will allow interested persons additional time to analyze the proposal and prepare their comments.

² Derivatives Clearing Organization General Provisions and Core Principles, 84 FR 22226 (May 16, 2019).

³ See Comment Letter from CME Group Inc., Intercontinental Exchange, Inc., and Futures Industry Association (June 18, 2019), available at https://comments.cftc.gov/PublicComments/CommentList.aspx?id=2985.

Issued in Washington, DC, on June 28, 2019, by the Commission.
Christopher Kirkpatrick,
Secretary of the Commission.

Note: The following appendix will not appear in the Code of Federal Regulations.

Appendix to Derivatives Clearing Organization General Provisions and Core Principles—Commission Voting Summary

On this matter, Chairman Giancarlo and Commissioners Quintenz, Behnam, Stump, and Berkovitz voted in the affirmative. No Commissioner voted in the negative.

[FR Doc. 2019-14294 Filed 7-3-19; 8:45 am]

BILLING CODE 6351-01-P